DEPARTMENT OF TRANSPORTATION

Federal Aviation Administration

14 CFR Part 39

[Docket No. FAA-2004-19618; Directorate Identifier 2004-CE-39-AD; Amendment 39-13872; AD 2004-23-17]

RIN 2120-AA64

Airworthiness Directives; Mooney Airplane Company, Inc., Model M20M Airplanes

AGENCY: Federal Aviation Administration (FAA), DOT.

ACTION: Final rule; request for comments.

SUMMARY: The FAA is adopting a new airworthiness directive (AD) to supersede Airworthiness Directive 91-03-15, which applies to certain Mooney Airplane Company, Inc., (Mooney) Model M20M airplanes. AD 91-03-15 currently requires you to replace the tailpipe coupling with improved tailpipe coupling. Since we issued AD 91-03-15, a fire erupted in the lower left cockpit area on one of the airplanes affected by AD 91-03-15. The V-clamp that attaches the exhaust tailpipe to the turbocharger fell off, which allowed the exhaust tailpipe to detach from the turbocharger. Hot exhaust gases from the turbocharger outlet blasted the lower left firewall. This AD requires you to replace the existing radiant heat shield with the new improved design heat shield, deflector kit; replace the existing exhaust tailpipe-to-turbocharger V-band clamp with the new design V-band clamp; and modify the hydraulic brake fluid poly line. We are issuing this AD to prevent the V-clamp from detaching from the turbocharger and to prevent exposure of the firewall to hot exhaust gases, which could result in an in-flight fire. An in-flight fire could lead to loss of control of the airplane and passenger injury.

DATES: This AD becomes effective on December 1, 2004.

As of December 1, 2004, the Director of the Federal Register approved the incorporation by reference of certain publications listed in the regulation.

We must receive any comments on this AD by January 12, 2005.

ADDRESSES: Use one of the following to submit comments on this AD:

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, Room PL-401, Washington, DC 20590-001.

• Fax: 1-202-493-2251.

• Hand Delivery: Room PL-401 on the plaza level of the Nassif Building, 400 Seventh Street, SW., Washington, DC, between 9 a.m. and 5 p.m., Monday through Friday, except Federal holidays.

To get the service information identified in this proposed AD, contact Mooney Airplane Company, Inc., Louis Schreiner Field, Kerrville, Texas 78028; telephone: (830) 896-6000.

To view the comments to this AD, go to http://dms.dot.gov. The docket number is FAA-2004-19618.

FOR FURTHER INFORMATION CONTACT: Garry D. Sills, Aerospace Engineer, Rotorcraft Directorate, ASW-150, 2601 Meacham Blvd, Fort Worth, Texas 76193; telephone: (817) 222-5154; facsimile: (817) 222-5960.

SUPPLEMENTARY INFORMATION: Has FAA taken any action to this point? The FAA issued AD 91-03-15, Amendment 39-6870 to prevent the discharge of high temperature exhaust gases inside the engine compartment that could result in the airplane cabin catching fire for certain Mooney Model M20M airplanes. AD 91-03-15 currently requires replacing the tailpipe coupling.

What has happened since AD 91-03-15 to initiate this AD action? The FAA received a report that a fire erupted below the pilot's rudder pedals shortly after takeoff on one of the airplanes affected by AD 91-03-15, which caused smoke to fill the cabin. Investigation revealed that the V-clamp attaching the exhaust tailpipe to the turbocharger had fallen off. This allowed the exhaust tailpipe to drop away form the turbocharger. Hot exhaust gases from the turbocharger outlet were blasted onto the lower left firewall. The fire ignited in the left lower cockpit area below the rudder/brake pedals and behind the firewall. Hydraulic fluid ignited when a plastic hydraulic supply line behind the firewall melted.

What is the potential impact if FAA took no action? The V-clamp could detach from the turbocharger and expose the firewall to hot exhaust gases, which could result in an in-flight fire. An in-flight fire could lead to loss of control of the airplane and passenger injury.

Is there service information that applies to this subject? Mooney has issued Service Bulletin M20-283A, dated March 30, 2004.

What are the provisions of this service information? The service bulletin includes procedures for:

—Replacing the existing radiant heat shield with the new heat shield, deflector kit;

—Replacing the existing exhaust tailpipe-to-turbocharger V-band clamp; and

—Modifying the hydraulic brake fluid poly line.

FAA's Determination and Requirements of the AD

What has FAA decided? We have evaluated all pertinent information and identified an unsafe condition that is likely to exist or develop on other products of this same type design.

Since the unsafe condition described previously is likely to exist or develop on other Mooney Model M20M airplanes of the same type design, we are issuing this AD to prevent the V-clamp from detaching from the turbocharger and to prevent exposure of the firewall to hot exhaust gases, which could result in an in-flight fire. An in-flight fire could lead to loss of control of the airplane and passenger injury.

What does this AD require? This AD supersedes AD 91-03-15 and requires you to incorporate the actions in the previously-referenced service bulletin.

In preparing this rule, we contacted type clubs and aircraft operators to get technical information and information on operational and economic impacts. We did not receive any information through these contacts. If received, we would have included a discussion of any information that may have influenced this action in the rulemaking docket.

How does the revision to 14 CFR part 39 affect this AD? On July 10, 2002, we published a new version of 14 CFR part 39 (67 FR 47997, July 22, 2002), which governs FAA's AD system. This regulation now includes material that relates to altered products, special flight permits, and alternative methods of compliance. This material previously was included in each individual AD. Since this material is included in 14 CFR part 39, we will not include it in future AD actions.

Comments Invited

Will I have the opportunity to comment before you issue the rule? This AD is a final rule that involves requirements affecting flight safety and was not preceded by notice and an opportunity for public comment; however, we invite you to submit any written relevant data, views, or arguments regarding this AD. Send your comments to an address listed under ADDRESSES. Include “Docket No. FAA-2004-19618; Directorate Identifier 2004-CE-39-AD” in the subject line of your comments. If you want us to acknowledge receipt of your mailed comments, send us a self-addressed, stamped postcard with the docket number written on it; we will date-stamp your postcard and mail it back to you. We specifically invite comments on the overall regulatory, economic, environmental, and energy aspects of the rule that might suggest a need to modify it. If a person contacts us through a nonwritten communication, and that contact relates to a substantive part of this AD, we will summarize the contact and place the summary in the docket. We will consider all comments received by the closing date and may amend the AD in light of those comments.

Regulatory Findings

Will this AD impact various entities? We have determined that this AD will not have federalism implications under Executive Order 13132. This AD will not have a substantial direct effect on the States, on the relationship between the national government and the States, or on the distribution of power and responsibilities among the various levels of government.

Will this AD involve a significant rule or regulatory action? For the reasons discussed above, I certify that this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this AD and placed it in the AD Docket. You may get a copy of this summary by sending a request to us at the address listed under ADDRESSES. Include “Docket No. FAA-2004-19618; Directorate Identifier 2004-CE-39-AD” in your request.

This rulemaking is promulgated under the authority in Subtitle VII, Part A, Subpart III, Section 44701, General requirements. Under that section, the FAA is charged with prescribing minimum standards required in the interest of safety for the design of aircraft. This regulation is within the scope of that authority since it corrects an unsafe condition in the design of the aircraft caused by the V-clamp detaching from the turbocharger and exposing the firewall to hot exhaust gases.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 91-03-15, Amendment 39-6870 and by adding a new AD to read as follows:

2004-23-17 Mooney Airplane Company, Inc.: Amendment 39-13872; Docket No. FAA-2004-19618; Directorate Identifier 2004-CE-39-AD. Supersedes AD 91-03-15; Amendment 39-6870.

When Does This AD Become Effective?

(a) This AD becomes effective on December 1, 2004.

Are Any Other ADs Affected by This Action?

(b) Yes. This AD supersedes AD 91-03-15, Amendment 39-6870.

What Airplanes Are Affected by This AD?

(c) This AD affects Model M20M airplanes, serial numbers 27-0001 through 27-0321, that are certificated in any category.

What Is the Unsafe Condition Presented in This AD?

(d) This AD is the result of an in-flight cockpit fire. We are issuing this AD to prevent the V-clamp from detaching from the turbocharger and to prevent exposure of the firewall to hot exhaust gases, which could result in an in-flight fire. An in-flight fire could lead to loss of control of the airplane and passenger injury.

What Must I Do To Address This Problem?

(e) To address this problem, you must do the following:

Actions | Compliance | Procedures
(1) Remove the existing radiant heat shield, part number (P/N) 600182-501 (A), and replace with the new radiant heat shield, P/N 600182-501 (B), and install the new heat shield deflector, P/N 600505-001. Remove the existing V-band clamp, P/N 55677-340M or 40D21162-340M, and install the new V-band clamp, P/N NH1009399-10 or 40D23255-340M | Within 10 hours time-in-service (TIS) after December 1, 2004 (the effective date of this AD), unless already done. If you have already incorporated all parts of Mooney Airplane Company, Inc. Service bulletin M20-283, dated January 3, 2004, then you only have to replace the tailpipe V-band clamp with the new configuration V-band clamp, P/N NH109399-10 or 40D23255-340M | Follow Mooney Airplane Company, Inc. Service Bulletin M20-283A, dated March 30, 2004.
(2) Modify the hydraulic brake fluid poly line | Within 10 hours TIS after December 1, 2004 (the effective date of this AD), unless already done. If you have already incorporated all parts of Mooney Airplane Company, Inc. Service Bulletin M20-283, dated January 3, 2004, then you only have to replace the tailpipe V-band clamp with the new configuration V-band clamp, P/N NH109399-10 or 40D23255-340M | Follow Mooney Airplane Company, Inc. Service Bulletin M20-283A, dated March 30, 2004.

May I Request an Alternative Method of Compliance?

(f) You may request a different method of compliance or a different compliance time for this AD by following the procedures in 14 CFR 39.19. Unless FAA authorizes otherwise, send your request to your principal inspector. The principal inspector may add comments and will send your request to the Manager, Fort Worth Aircraft Certification Office, FAA. For information on any already approved alternative methods of compliance, contact Garry D. Sills, Aerospace Engineer, Rotorcraft Directorate, ASW-150, 2601 Meacham Blvd., Fort Worth, Texas 76193; telephone: (817) 222-5154; facsimile: (817) 222-5960.

(1) Alternative methods of compliance (AMOC) approved for AD 91-03-15 are not considered approved as an AMOC for this AD.

(2) You may have already done the actions of this AD per an AMOC from 91-03-15. If so, no further action is required.

Does This AD Incorporate Any Material by Reference?

(g) You must do the actions required by this AD following the instructions in Mooney Airplane Company, Inc. Service Bulletin M20-283A, dated March 30, 2004. The Director of the Federal Register approved the incorporation by reference of this service bulletin in accordance with 5 U.S.C. 552(a) and 1 CFR part 51. To get a copy of this service information, contact Mooney Airplane Company, Inc., Louis Schreiner Field, Kerrville, Texas 78028; telephone: (830) 896-6000. To review copies of this service information, go to the National Archives and Records Administration (NARA). For information on the availability of this material at NARA, go to: http://www.archives.gov/federal_register/code_of_federal_regulations/ibr_locations.html or call (202) 741-6030. To view the AD docket, go to the Docket Management Facility; U.S. Department of Transportation, 400 Seventh Street, SW., Nassif Building, Room PL-401, Washington, DC 20590-001 or on the Internet at http://dms.dot.gov. The docket number is FAA-2004-19618.

Issued in Kansas City, Missouri, on November 12, 2004.
David R. Showers,
Acting Manager, Small Airplane Directorate, Aircraft Certification Service.

[FR Doc. 04-25595 Filed 11-19-04; 8:45 am]

BILLING CODE 4910-13-P